DEPARTMENT OF DEFENSE

Department of the Army; Corps of Engineers

Intent To Prepare a Draft Environmental Impact Statement for the Lower Willamette River Dredged Material Management Plan, Portland, OR

AGENCY: Department of the Army, U.S. Army Corps of Engineers, DoD.

ACTION: Notice of intent.

SUMMARY: Pursuant to Section 102(2)(c) of the National Environmental Policy Act (NEPA) of 1969 as implemented by the Council on Environmental Quality regulations (40 CFR Parts 1500-1508) and Public Law 102-484 Section 2834, as amended by Public Law 104-106 Section 2867, the Department of the Army hereby gives notice of intent to prepare a Draft Environmental Impact Statement (EIS) for the subject Dredged Material Management Plan (DMMP). The Portland District of the U.S. Army Corps of Engineers will be the lead agency in preparing the EIS.

The EIS will consider Federal actions associated with the development of a DMMP for the Federal navigation channel in the city of Portland, Multnomah County, OR. The DMMP is a study conducted to develop a long-term (20-year) strategy for providing viable dredged material placement alternatives that would meet the needs of maintaining the Federal channel at Portland Harbor. The overall goal of the DMMP is to develop a long-term plan for continued maintenance of the federal navigation channel that supports commercial navigation within Portland Harbor and to conduct dredged material placement in the most economically and environmentally sound manner and to maximize the use of dredged material as a beneficial source.

DATES: Submit comments by November 27, 2001.

ADDRESSES: Mail comments to Ms. Carolyn Schneider, Portland District, Corps of Engineers, CENWP-PM-E, P.O. Box 2946, Portland, OR 97208-2946.

FOR FURTHER INFORMATION CONTACT: Mr. Donald Erickson, Project Manager, Portland District, Corps of Engineers, telephone: (503) 808-4713, or Ms. Carolyn Schneider, Environmental Resource Specialist, Portland District, Corps of Engineers, telephone: (503) 808-4770.

SUPPLEMENTARY INFORMATION: The Federal navigation channel is from Willamette River mile (WRM) 0 to 11.6. Historically, approximately 500,000 to 750,000 cubic yards of silty sand and sandy silts have been dredged from the Lower Willamette River in three to five year intervals. The Corps has not performed maintenance dredging since 1997. Presently, sediment has accumulated in the Federal navigation channel to the point that portions of the channel are less than the 40 foot depth required for safe navigation. Additional sediment accumulation could increase the potential for safety hazards and adverse economic impacts.

Proposed Action: In accordance with U.S. Army Corps of Engineers Regulation 1105-2-100, a DMMP is being prepared for the Federal navigation project to ensure that maintenance dredging activities are performed in an environmentally acceptable manner, use sound engineering techniques, are economically warranted, and that sufficient disposal facilities are available for at least the next 20 years. The Lower Willamette River DMMP will focus on management of material dredged from the federal navigation channel and will take into consideration non-Federal dredging projects permitted by the Portland District.

Reasonable Alternatives: The Corps will consider both dredging and non-dredging measures, either separately or in combination. The EIS will evaluate alternatives that will consist of an array of disposal and beneficial use options. It is Corps of Engineers planning policy to consider all practicable and relevant alternative management procedures. Options for maintaining the Lower Willamette River Federal navigation channel that are being considered include the following: (1) Dredging and in-water placement of dredged material. Dredged material that satisfies Sediment Evaluation Framework (SEF) guidelines for unconfined aquatic disposal will be placed at in-water sites. The Corps has identified potential locations for in-water disposal of dredged material that are being assessed; (2) Dredging and upland disposal of dredged material. Material that doesn't meet the SEF guidelines for unconfined aquatic disposal will be placed upland. The Corps has identified potential locations for upland disposal of dredged material that are being assessed; (3) Beneficial uses of dredged material; (4) Non-dredging channel maintenance measures. Non-dredging channel maintenance measures will be considered that reduce dredging needs. They include, but are not limited to, hydraulic control structures, sediment control structures, sediment traps, upstream erosion control measures, and changes to the operation of upstream dams; (5) “No Action”. This alternative consists of a continuation of the current maintenance dredging at the as-constructed channel dimensions and placing dredged material at the existing sites without modification.

Scoping Process: The Corps of Engineers invites affected Federal, State, and local agencies, Native American tribes, and other interested organizations and individuals to participate in the development of the EIS. The Corps of Engineers anticipates conducting a public scoping meeting for this EIS in the fall of 2006. The exact date, time, and location of this meeting have not yet been determined. This information will be publicized once the meeting arrangements have been made. The Corps will provide notice to the public of additional opportunities for public input on the EIS during review periods for the draft and final EIS. The draft EIS is currently scheduled to be available for public review in June 2007. The final EIS is currently scheduled to be available in January 2008.

Thomas E. O'Donovan,
Colonel, EN, Commanding.

[FR Doc. 06-8934 Filed 10-26-06; 8:45 am]

BILLING CODE 3710-AR-M